DEPARTMENT OF AGRICULTURE

Forest Service

Boundary Establishment for Sturgeon National Wild and Scenic River, Ottawa National Forest, Baraga and Houghton Counties, Michigan

AGENCY: Forest Service, USDA.

ACTION: Notice of availability.

SUMMARY: In accordance with section 3(b) of the Wild and Scenic Rivers Act, the USDA Forest Service, Washington Office, is transmitting the final boundary for the Sturgeon National Wild and Scenic River to Congress.

FOR FURTHER INFORMATION CONTACT: Information may be obtained by contacting Jordan Ketola, Forest Land Surveyor, by telephone at (906) 428-5825 or via email at Jordan.ketola@usda.gov. Alternatively, contact the Ottawa National Forest Supervisor's Office at (906) 932-1330 or online at https://www.fs.usda.gov/contactus/ottawa/about-forest/contactus. Individuals who use telecommunication devices for the hearing-impaired (TDD) may call the Federal Information Relay Service (FIRS) at 1-800-877-8339 between 8:00 a.m. and 8:00 p.m., Eastern Daylight Time, Monday through Friday.

SUPPLEMENTARY INFORMATION: The Sturgeon Wild and Scenic River boundary description and map are available for review on the Ottawa National Forest website: https://www.fs.usda.gov/alerts/ottawa/alerts-notices.

Due to COVID-19 health and safety protocols to protect employees and visitors, many Forest Service offices are closed to the public. The Sturgeon Wild and Scenic River boundary description and maps are available for review at the following offices if arrangements are made in advance: USDA, Forest Service, Yates Building, 201 14th Street SW, Washington, DC 20024, phone (800) 832-1355; Eastern Regional Office, 626 East Wisconsin Avenue, Milwaukee, WI 53202, phone (414) 297-3600; and Ottawa National Forest Supervisor's Office, E6248 US2, Ironwood, MI 49938, phone (906) 932-1330. Please contact the appropriate office prior to arrival.

The Michigan Scenic River Act of 1991 (Pub. L. 102-249, dated March 3, 1992) designated Sturgeon River, Michigan as a National Wild and Scenic River, to be administered by the Secretary of Agriculture. As specified by law, the boundary will not be effective until 90 days after Congress receives the transmittal.

Dated: July 11, 2021.
Jennifer Eberlien,
Associate Deputy Chief, National Forest System.

[FR Doc. 2021-16018 Filed 7-27-21; 8:45 am]

BILLING CODE 3411-15-P